DEPARTMENT OF COMMERCE

National Oceanic and Atmospheric Administration

[RTID 0648-XA871]

Endangered and Threatened Species; Take of Anadromous Fish

AGENCY: National Marine Fisheries Service (NMFS), National Oceanic and Atmospheric Administration (NOAA), Commerce.

ACTION: Notice; determination on hatchery and genetic management plans and availability of the associated Record of Decision.

SUMMARY: Pursuant to limits 5 and 6 of the Endangered Species Act's Rule, notice is hereby given that NMFS has made determinations on 17 Hatchery and Genetic Management Plans (HGMPs). The HGMPs describe salmon and steelhead hatchery programs and associated monitoring in the Duwamish, Green, Stillaguamish, Lower Columbia, and Upper Salmon River Basins of Washington and Idaho. In compliance with the National Environmental Policy Act (NEPA), NMFS also announces the availability of the following NEPA documents: The Record of Decision (ROD) for 10 Duwamish-Green River hatchery programs; the Finding of No Significant Impact (FONSI) for four hatchery programs in the Stillaguamish River; and the FONSI for two hatchery programs in the Upper Salmon River Basin.

FOR FURTHER INFORMATION CONTACT: Lance Kruzic, at phone number: (541) 957-3381, or via email: lance.kruzic@noaa.gov.

SUPPLEMENTARY INFORMATION:

Species Covered in This Notice

The following listed species are covered in this notice:

Puget Sound Chinook salmon (Oncorhynchus tshawytscha): Threatened, naturally produced, and artificially propagated;

Puget Sound steelhead (O. mykiss): Threatened, naturally produced, and artificially propagated Puget Sound;

Puget Sound chum salmon (O. keta): Threatened, naturally produced, and artificially propagated;

Snake River Chinook salmon (O. tshawytscha): Threatened, naturally produced, and artificially propagated;

Snake River steelhead (O. mykiss): Threatened, naturally produced, and artificially propagated;

Snake River sockeye salmon (O. nerka): Threatened, naturally produced, and artificially propagated;

Lower Columbia River Chinook salmon (O. tshawytscha): Threatened, naturally, and artificially propagated;

Lower Columbia River coho salmon (O. kisutch): Threatened, naturally produced, and artificially propagated;

Lower Columbia River steelhead (O. mykiss): Threatened, naturally, and artificially propagated; and

Lower Columbia River chum salmon (O. keta): Endangered, naturally, and artificially propagated.

Description of Submitted HGMPs

Duwamish-Green: The 10 joint plans for programs located in this basin intend to conserve ESA-listed fall Chinook salmon and winter steelhead while also providing harvest opportunities for these species when adult return abundances allow. Additionally, 2 of the 10 hatchery programs will provide a prey base for the endangered Southern Resident Killer Whales (SRKW). The joint plans also provide fall chum salmon for harvest.

Stillaguamish: The four joint plans for programs located in this basin intend for conservation, mitigation, and to provide for tribal and non-tribal harvest pursuant to the Puget Sound Salmon Management Plan implemented under United States v. Washington and treaty rights. The Chinook salmon joint plans are consistent with the Stillaguamish Watershed Chinook Salmon Recovery Plan (Stillaguamish Implementation Review Committee [SIRC] 2005) along with the Puget Sound Salmon Conservation Plan (Shared Strategy for Puget Sound 2007).

Yankee-Panther: The two joint plans submitted by the Shoshone/Bannock Tribes seek to restore fishing opportunities for tribal members through Chinook salmon hatchery programs in the Yankee Fork and Panther Creek watersheds. Restoration of these ceremonial and subsistence fisheries would be accomplished consistently with the recovery and long-term sustainability of Chinook salmon in the upper Salmon River basin.

Elochoman: The Washington Department of Fish and Wildlife proposes to restore a late-returning coho program in the Elochoman watershed. The program intends to reduce hatchery production impacts to ESA-listed Lower Columbia River coho by integrating natural-origin coho into the conservation program while providing tribal, sport, and commercial harvest opportunities through the segregated portion of the program. Due to facility issues, the Grays River Hatchery late coho program has ended, and that program's production has shifted to the Beaver Creek Hatchery.

Discussion of the Biological Analysis Underlying the Determinations

All of the submitted HGMPs are consistent with each of the ESA-listed species' recovery plans and designed to help conserve their populations across the Evolutionary Significant Units (ESU) and or Distinct Population Segment (DPS) range. NMFS, through its evaluation, has determined each of the programs are designed and operated to ensure that the impacts to ESA-listed natural-origin Chinook salmon, coho salmon, chum salmon, and steelhead populations will not appreciably reduce the survival and recovery of listed species. The programs use adaptive management procedures and the best available science to reduce adverse genetic effects and lessen competition and predation impacts typically associated with salmon and steelhead hatchery programs. Monitoring and evaluation will be implemented to assess each program's performance in meeting population conservation or harvest augmentation objectives and their effects on ESA-listed natural-origin Chinook salmon, coho salmon, chum salmon, and steelhead. The information gained through monitoring and evaluation will be used to assess whether the programs' impacts on listed fish are consistent with NMFS' determinations.

A review of monitoring and evaluation results by NMFS and the co-managers will occur annually to evaluate whether assumptions regarding the HGMP and joint plans' effects and analysis remain valid and whether the objectives are being accomplished. The HGMPs include provisions for annual reports that will assess compliance with performance standards established through the HGMPs. Reporting and inclusion of new information derived from HGMPs' research, monitoring, and evaluation activities provides NMFS with the information required to determine what performance standards have been met.

Summary of Comments Received

Duwamish-Green: NMFS published a notice of its Proposed Evaluation and Pending Determination (PEPD) on the joint plans for public review and comment on April 2, 2019 (84 FR 12593), as required by the ESA Section 4(d) Rule. The PEPD was available for public review and comment for 30 days. NMFS received four comments relevant to the PEPD. Our responses to those comments are addressed in our Evaluation and Recommended Determination (ERD). Based on our ERD and considering the public comments, NMFS issued its final determination for the Duwamish-Green River HGMP.

Stillaguamish: NMFS published a notice of its draft Environmental Assessment (EA) and PEPD on the proposed joint plans for public review and comment on June 28, 2019 (84 FR 31031), as required by the ESA 4(d) Rule. The EA and PEPD were available for public review and comment for 30 days, NMFS received two comments. Based on our ERD and considering the public comments, NMFS issued its final determination on the Stillaguamish River HGMPs.

Yankee-Panther: NMFS published a notice of its EA and PEPD on the joint plans for public review and comment on March 10, 2020 (85 FR 13876), as required by the ESA 4(d) Rule. The EA and PEPD were available for public review and comment for 30 days. NMFS received no comments. Based on our ERD, NMFS issued its final determination on the Yankee Fork and Panther Creek HGMPs.

Elochoman/Beaver Creek: NMFS published a notice of availability of the HGMP for public review and comment on October 4, 2019 (84 FR 53104), as required by the ESA Section 4(d) Rule. The HGMP was available for public review and comment for 30 days. NMFS received no comments. Based on our ERD, NMFS approved the Elochoman River HGMP.

Determinations

Duwamish: The notice of the FEIS availability was published in the Federal Register on July 12, 2019 (84 FR 33256). NMFS has decided to select the agency's preferred alternative, Alternative 5, from the FEIS. Under the selected alternative, NMFS determined that the co-managers' joint plans met the requirements of limit 6 of the ESA 4(d) Rule. The 10 salmon and steelhead hatchery programs in the Duwamish-Green River Basin would be implemented as described in the submitted joint plans. The ROD documents NMFS's decision, identifies all alternatives considered in reaching the decision, specifies the alternative considered to be environmentally preferable, and identifies and discusses relevant factors balanced by NMFS in making its decision.

Stillaguamish: NMFS has decided to select the agency's preferred alternative, Alternative 2, from the final EA. Under the selected alternative, NMFS determined that the co-managers' joint plans met the requirements of limits 6 of the ESA 4(d) Rule. The four hatchery programs in the Stillaguamish River Basin would be implemented as described in the submitted joint plans. The FONSI documents NMFS's decision that the proposed joint plans are not likely to significantly affect the human environment.

Yankee-Panther Creek: NMFS has decided to select the agency's preferred alternative in the EA, Alternative 2. Under the selected alternative, NMFS would determine that the co-managers' joint plans met the requirements of limit 6 of the ESA 4(d) Rule. The two hatchery programs in the Upper Salmon River Basin would be implemented as described in the submitted joint plans. The FONSI documents NMFS's decision that the proposed joint plans are not likely to significantly affect the human environment.

Elochoman/Beaver Creek: NMFS determined that the HGMP submitted by The Washington Dept. of Fish and Wildlife (WDFW) met the requirements of limit 5 of the ESA 4(d) Rule. The proposed action does not differ from that analyzed in the existing NEPA analysis (2014 Mitchell Act FEIS). The Supplemental Information Report (SIR) adequately addresses the impacts of the proposed action on the human environment and evaluates new information available since the existing NEPA analysis. The hatchery program in the Elochoman River Basin would be implemented as described in the submitted HGMP.

Authority

16 U.S.C. 1531-1543; subpart B, § 223.201-202 also issued under 16 U.S.C. 1361 et seq.; 16 U.S.C. 5503(d) for § 223.206(d)(9).

Angela Somma,
Chief, Endangered Species Division, Office of Protected Resources, National Marine Fisheries Service.

[FR Doc. 2021-03200 Filed 2-17-21; 8:45 am]

BILLING CODE 3510-22-P